COMMODITY FUTURES TRADING COMMISSION

Boards of Trade Located Outside of the United States and the Requirement To Become a Designated Contract Market or Derivatives Transaction Execution Facility

AGENCY: Commodity Futures Trading Commission.

ACTION: Extension of comment period.

SUMMARY: The Commodity Futures Trading Commission (Commission) published on June 13, 2006, a request for comment ¹ in advance of a public hearing scheduled for June 27, 2006.² The purpose of the request for comment and the hearing was to solicit the views of the public on how to identify and address certain issues with respect to boards of trade established in foreign countries and located outside the U.S. (foreign board of trade or FBOT). Specifically, the Commission announced that it wished to address the point at which an FBOT that makes its products available for trading in the U.S. by permitting direct access to its electronic trading system from the U.S. (direct access) is no longer “located outside the U.S.” for purposes of Section 4(a) of the Commodity Exchange Act (Act). Comments on the subject were originally due on July 12, 2006.

¹ 71 FR 34070 (June 13, 2006).

² See Sunshine Act Meeting Notice, 71 FR 30665 (May 30, 2006); corrected as 71 FR 32059 (June 2, 2006).

Subsequent to the public hearing, interested parties have requested that the comment period be extended, either because of the complexity of the issues set forth in the request for comment or in order to address and/or respond to issues raised during the course of the hearing. The Commission recognizes the complexity of the issues and the diversity of interests in this matter and is, accordingly, extending the comment period to August 1, 2006. Potential commenters who intend to address comments made during the course of the public hearing should note that the transcript of the hearing has been posted on the Commission's Web site, www.cftc.gov, in Comment File Number: 06-002.

DATES: Comments must be received on or before August 1, 2006.

ADDRESSES: Comments should be sent to the Commodity Futures Trading Commission, Three Lafayette Centre, 1155 21st Street, NW., Washington, DC 20581, attention: Office of the Secretariat. Comments may be sent by facsimile transmission to 202-418-5521 or, by e-mail to secretary@cftc.gov. Reference should be made to “What Constitutes a Board of Trade Located Outside of the United States.” Comments may also be submitted to the Federal eRulemaking Portal: http://www.regulations.gov.

FOR FURTHER INFORMATION CONTACT: David P. Van Wagner, Chief Counsel, (202) 418-5481, e-mail dvanwagner@cftc.gov; or Duane C. Andresen, Special Counsel, (202) 418-5492, e-mail dandresen@cftc.gov; Division of Market Oversight, Commodity Futures Trading Commission, Three Lafayette Center, 1155 21st Street, NW., Washington, DC 20581.

Issued in Washington, DC on July 10, 2006 by the Commission.
Eileen A. Donovan,
Acting Secretary of the Commission.

[FR Doc. E6-11120 Filed 7-13-06; 8:45 am]

BILLING CODE 6351-01-P